FEDERAL COMMUNICATIONS COMMISSION

47 CFR Parts 14 and 64

[CG Docket Nos. 23-161, 10-213, 03-123; FCC 24-95; FR ID 268783]

Access to Video Conferencing

AGENCY: Federal Communications Commission.

ACTION: Proposed rule.

SUMMARY: In this document, the Federal Communications Commission (FCC or Commission) seeks comment on whether to amend the accessibility rules for interoperable video conferencing services (IVCS) to include additional performance objectives addressing text-to-speech and speech-to-speech functionality; automatic sign-language interpretation; additional user interface control functions; access to video conferencing for people who are blind or have low vision; and access to video conference for people with cognitive or mobility disabilities. The Commission also seeks further comment on whether and how the telecommunications relay services (TRS) Fund should support team interpreting in video conferences and whether additional rules are needed to facilitate the integration and appropriate use of TRS with video conferencing.

DATES: Comments are due February 3, 2025. Reply comments are due March 3, 2025.

ADDRESSES: You may submit comments, identified by CG Docket Nos. 23-161, 10-213, and 03-123 by the following method:

• Federal Communications Commission's Website: https://www.fcc.gov/ecfs/filings. Follow the instructions for submitting comments.

For detailed instructions for submitting comments and additional information on the rulemaking process, see the SUPPLEMENTARY INFORMATION section of this document.

FOR FURTHER INFORMATION CONTACT: William Wallace, Disability Rights Office, Consumer and Governmental Affairs Bureau, at (202) 418-2716, or William.Wallace@fcc.gov; or Ike Ofobike, Disability Rights Office, Consumer and Governmental Affairs Bureau, at (202) 418-1028, or Ike.Ofobike@fcc.gov.

SUPPLEMENTARY INFORMATION: This is a summary of the Commission's Further Notice of Proposed Rulemaking (FNPRM), document FCC 24-95, adopted on September 26, 2024, released on September 27, 2024, in CG Docket Nos. 23-161, 10-213, and 03-123. This summary is based on document FCC 24-95, the full text of which can be accessed electronically via the Commission's Electronic Document Manage System website at https://www.fcc.gov/edocs, or via the Commission's Electronic Comment Filing System (ECFS) website at https://www.fcc.gov/ecfs.

Pursuant to §§ 1.415 and 1.419 of the Commission's rules, 47 CFR 1.415, 1.419, interested parties may file comments and reply comments. Comments may be filed using ECFS.

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

• To request materials in accessible formats for people with disabilities (Braille, large print, electronic files, audio format), send an email to fcc504@fcc.gov or call the Consumer and Governmental Affairs Bureau at (202) 418-0530.

Ex Parte Rules. This proceeding shall be treated as a permit-but-disclose proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Providing Accountability Through Transparency Act: The Providing Accountability Through Transparency Act, Public Law 118-9, requires each agency, in providing notice of a rulemaking, to post online a brief plain-language summary of the proposed rule. The required summary of the FNPRM is available at https://www.fcc.gov/proposed-rulemakings.

Initial Paperwork Reduction Act of 1995 Analysis

Document FCC 24-95 may contain proposed new or modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

Synopsis

Background

1. Under section 716 of the Communications Act, as amended (the Act), 47 U.S.C. 617, providers of advanced communications services (ACS) and manufacturers of equipment used for ACS must make such services and equipment accessible to and usable by people with disabilities, if achievable. Service providers and manufacturers may comply with section 716 of the Act either by building accessibility features into their services and equipment or by choosing to use third-party applications, peripheral devices, software, hardware, or customer premises equipment (CPE) that are available to individuals with disabilities at nominal cost. If accessibility is not achievable through either of these means, then manufacturers and service providers must make their products and services compatible with existing peripheral devices or specialized CPE commonly used by people with disabilities to achieve access, subject to the achievability criterion. The Commission is directed to adopt “performance objectives to ensure the accessibility, usability, and compatibility of advanced communications services and the equipment used for such services.”

2. The Act defines advanced communications services as: (A) interconnected Voice over internet Protocol (VoIP) service; (B) non-interconnected VoIP service; (C) electronic messaging service; (D) interoperable video conferencing service; and (E) any audio or video communications service used by inmates for the purpose of communicating with individuals outside of the correctional facility where the inmate is held, regardless of technology used. 47 U.S.C. 153(1). Interoperable video conferencing service, in turn, is defined as: A service that provides real-time video communications, including audio, to enable users to share information of the user's choosing. 47 U.S.C. 153(27).

3. Telecommunications Relay Services and Interoperable Video Conferencing Services. Enacted in 1990, Title IV of the Americans With Disabilities Act (ADA), codified as section 225 of the Act, directs the Commission to “ensure that interstate and intrastate telecommunications relay services are available, to the extent possible and in the most efficient manner,” to people in the United States with hearing or speech disabilities. TRS are defined as “telephone transmission services” enabling such persons to communicate by wire or radio “in a manner that is functionally equivalent to the ability of [a person without hearing or speech disabilities] to communicate using voice communication services.” There are currently three forms of internet-based TRS: Video Relay Service (VRS) “allows people with hearing or speech disabilities who use sign language to communicate with voice telephone users through video equipment and a live communications assistant (CA);” Internet Protocol Relay Service (IP Relay) allows an individual with a hearing or speech disability to communicate with voice telephone users by transmitting text via the internet; and internet Protocol Captioned Telephone Service (IP CTS) permits a person with hearing loss to have a telephone conversation while reading captions of what the other party is saying on an internet-connected device. The provision of internet-based TRS is supported by the Interstate TRS Fund, maintained through mandatory contributions from providers of telecommunications service, interconnected VoIP service, and non-interconnected VoIP service. Three non-internet-based forms of TRS—traditional TRS using text telephony (TTY), Captioned Telephone Service (CTS), and Speech-to-Speech Relay (STS)—are also supported in part by the TRS Fund and are available through state TRS programs.

4. To address concerns about the availability of TRS on video conferencing platforms, the Commission requested the Disability Advisory Committee (DAC) to study the matter. In its 2022 report, the DAC recommended that the FCC resolve these concerns by: facilitating a technical mechanism for TRS providers to natively interconnect TRS services, including video, audio, captioning, and text-based relay to video conferencing platforms; ensuring that users can seamlessly initiate TRS from the provider of their choice on any video conferencing platform; addressing the integration of CAs and the overall accessibility challenges of video conferencing platforms; and, clarifying the legal ability of TRS providers to seek compensation for service provided for video conferences from the TRS Fund.

5. In 2023, the Commission proposed IVCS-specific amendments to the performance objectives in the part 14 rules on accessibility of ACS and amendments to the TRS rules to authorize and facilitate the provision of TRS in video conferences. 88 FR 52088, September 7, 2023 (2023 Video Conferencing Notice). Specifically, the Commission proposed to require IVCS providers to include speech-to-text (i.e., captioning of all voice communications) and text-to-speech capability, to enable the use of sign language interpreting, and to include accessibility settings in the user interface controls.

6. Regarding its TRS rules, the Commission proposed to clarify that the integrated provision of TRS in video conferences can be supported by the Interstate TRS Fund. The Commission also proposed additional rule amendments specific to video conferences, addressing VRS user validation and call detail supporting compensation requests; participation of VRS CAs and the use of multiple CAs and multiple VRS providers; and the ability of VRS users and CAs to turn off their cameras when not actively participating in a video conference. Regarding TRS generally, the Commission proposed to amend the confidentiality requirements for TRS CAs and providers in the context of video conferences and prohibit exclusivity agreements between TRS providers and IVCS providers. Finally, the Commission sought comment on how to avoid TRS substituting for accommodations for individuals with disabilities that employers, educational institutions, health care organizations, and government agencies are required to provide under other applicable laws, including whether to allow TRS users to reserve a CA in advance of a video conference.

7. On September 27, 2024, the Commission released the 2024 Video Conferencing Second Report and Order (2024 Video Conferencing Order), published at 89 FR 100878, December 13, 2024, adopting new or modified performance objectives to define the outcomes needed for IVCS accessibility.

Part 14 Issues

8. In the FNPRM, the Commission seeks additional comment on whether to adopt certain performance objectives proposed in the 2023 Video Conferencing Notice or in comments on that Notice, for which the current record is insufficient to enable a full assessment.

9. Given the emergence of video conferencing as a basic communication vehicle for almost all Americans, and the inconsistent implementation of accessibility to date in the video conferencing environment, the Commission seeks to assess whether additional, more specific performance objectives are needed for ensuring accessibility and usability in the specific context of IVCS. Like all the performance objectives currently included in part 14 of the Commission's rules, these performance objectives, if adopted, would further define what “accessible” and “usable” mean in the IVCS context. IVCS service providers and manufacturers would be required to meet these objectives to the extent that they are achievable. However, the Commission also seeks to ensure that any additional IVCS performance objectives it adopts are relevant to various types of IVCS and are currently achievable by at least some IVCS providers. The Commission seeks to avoid limiting the incentives and opportunities for innovative design in this rapidly developing industry sector, or adopting rules so specific as to constitute de facto mandatory technical standards. In this regard, the Commission notes that § 14.20(b)(1) of its rules requires ACS providers and manufacturers to “consider performance objectives set forth in § 14.21 of its rules at the design stage as early as possible.” 47 CFR 14.20(b)(1). In some instances, adopting more specific performance objectives may help focus the accessibility design processes of IVCS providers on solutions that are most likely to be relevant, effective, and achievable. In other instances, more specific performance objectives might unnecessarily constrain design choices.

10. Regarding each of the proposals discussed below, the Commission seeks further comment on the specific benefits and costs of the proposal, including: How would the proposed performance objective promote accessibility of IVCS for people with disabilities? Is the relevant accessibility problem already sufficiently addressed by the more general performance objectives set forth in the existing rules? Is the proposed performance objective likely to be achievable for at least some IVCS providers? For example, are there commercially available products or services that would meet the performance objective? Would the proposed performance objective unduly constrain the design of video conferencing platforms and services—and if so, how, specifically would it do so?

11. The Commission emphasizes that commercial availability, or lack thereof, is not dispositive of whether a performance objective is likely to be achievable. However, it may be relevant, along with other information, to a preliminary assessment of the overall likelihood that a performance objective can be accomplished by at least some IVCS providers with reasonable effort or expense.

12. The Commission also seeks comment on whether each proposed performance objective is relevant and applicable to all IVCS, or only certain subcategories of IVCS? The IVCS subcategory encompasses a wide variety of video communication services. Some, like Zoom, Google Meet, Microsoft Teams, or Facebook Messenger, are globally popular platforms with millions of active daily users. Others, like Discord, Signal, or Slack, have smaller customer bases and may cater to more targeted audiences. Some video conferencing applications are designed primarily for one-to-one video calling. For example, Slack's “Huddles” feature allows for video conference calls, but the free version of the service limits the call to two participants. Other possible examples include dating apps like Tinder, Bumble, and Hinge. Some of the proposed performance objectives may not be relevant on such platforms. The relevance of certain kinds of accessibility solutions also may vary depending on the type of device used to access a video conference. In determining whether to adopt a specific performance objective, to what extent should the Commission consider its relevance and applicability to a wide range of video conferencing services? The Commission also invites commenters to submit information about the range of video conferencing services currently offered or under development and how they currently address accessibility. For example, are there video conferencing platforms that exclusively offer one-on-one communication, without the ability to allow group calls? Are there platforms that operate exclusively on particular kinds of devices, such as mobile phones?

13. In addition to these general questions, which apply to all the part 14 of the Commission's rules proposals discussed herein, the Commission seeks comment on certain aspects of individual proposals and particular accessibility issues, as discussed below.

14. Addressing Speech Disabilities. In the 2023 Video Conferencing Notice, the Commission proposed to amend § 14.21(b)(1)(ix) of its rules, which specifies that ACS be operable in “at least one mode that does not require user speech,” by adding the further specification stating: “For interoperable video conferencing services, provide at least text-to-speech functionality.”

15. The Commission seeks further comment on whether a more specific performance objective is needed to ensure accessibility for people with speech disabilities, if achievable. The record reflects that there is more than one mode in which IVCS can potentially be made accessible for people with speech disabilities, for example, by providing text-to-speech functionality, or providing speech-to-speech functionality. Regarding the latter solution, the record indicates that automatic speech recognition technology has been applied to develop products that automatically convert speech that is difficult to understand to speech that is more understandable. In addition, the Commission notes that enabling a connection to VRS or other sign language interpretation services can also address accessibility for people with speech disabilities who also know ASL. The Commission seeks further comment on whether to modify this rule to specify text-to-speech functionality, speech-to-speech functionality, or both.

16. To what extent are text-to-speech and speech-to-speech products and services commercially available and widely used by people with speech disabilities? What are the potential benefits and costs of implementing text-to-speech and speech-to-speech functionality? How can such products or services be integrated with videoconferencing platforms? How do text-to-speech and speech-to-speech functionalities compare, as accessibility solutions?

17. Sign Language Interpretation. The Commission seeks further comment on whether additional specificity is needed in the performance objective for sign language interpretation. A commenter argues that this performance objective should not merely specify that IVCS enable the use of sign language interpretation, but actually provide it (or more specifically, provide ASL interpretation). The Commission seeks further comment on the need for and feasibility of this proposal. If VRS and video remote interpreting (VRI) are generally available to IVCS users on an integrated basis, to what extent would there be a need for IVCS providers to also provide sign language interpretation? Would such a performance objective likely be achievable for IVCS providers, e.g., by using automated sign language interpretation software? While ASR speech-to-text technology has been in development since 1952 and has seen widespread commercial adoption across various sectors, automatic sign language interpretation is a nascent technology. To what extent has the accuracy and reliability of automatic sign language interpretation been established?

18. User Control of Accessibility Features. In the 2024 Video Conferencing Order, recognizing that user control of features is often necessary for accessibility, the Commission adopted a new performance objective specifying that IVCS and covered equipment and software used with such services shall: (i) provide user interface control functions that permit users to activate and adjust the display of captions, speakers, and signers, and other features for which user interface control is necessary for accessibility.

19. Some commenters sought a more detailed performance objective that would list the specific aspects of captions, participant windows, and other features that must be subject to user control. For example, a commenter recommended that the Commission specify that users be able to customize the appearance of captions, including options for font size, font edges (i.e., outline, shadow, etc. to work without background) color and background (color and transparency level).

20. The performance objective adopted in the 2024 Video Conferencing Order requires IVCS providers to allow video conference participants to independently alter the font, size, location, color, and opacity of the captions and caption backgrounds appearing on the participant's screen. It also requires, where relevant, participant access to pinning and multi-pinning, spotlighting, and video window reconfiguration features. The Commission seeks comment on whether additional user-control performance objectives are necessary to further ensure accessibility of IVCS.

21. A commenter recommends that IVCS performance objectives should explicitly address the need for screen-reader verbosity controls. The Commission notes that the adopted performance objective specifies that users be able to activate and adjust features for which user interface control is necessary for accessibility. Thus, verbosity controls, among other user controls, are included in the performance objective to the extent that they are necessary for accessibility. The Commission seeks additional comment on the particular aspects of screen-reader verbosity control that are most important in the video conference setting, and any other considerations that should be taken into account in framing a performance objective that specifically addresses verbosity control.

22. A commenter also suggests that IVCS users' accessibility preferences should be stored and retained within the IVCS platform, so users will not have to change the settings each time they use the service. To what extent is this capability necessary for accessibility? Are there technical challenges to implementing such a feature? If so, what, and how severe, are those challenges? Should the settings be tied to the video conferencing service, or to the type of device used to access it? For example, should accessibility settings on a mobile version of an IVCS platform be retained when accessing the platform's web application?

23. Other Accessibility Proposals. A commenter recommends performance objectives specifying that IVCS provide a gallery view mode and ensure that a sufficient number of videos is supported without degrading the quality of the video or audio. The Commission seeks comment on these proposals. In what respect are such performance objectives necessary for accessibility? What variables, if any, could impact the quality of a user's video or audio if a user elects to have numerous video windows displayed? What variables, if any, could impact an IVCS provider's ability to provide high-quality videos?

24. The commenter also suggests a performance objective requiring that video functionality, screen sharing, video window re-sizing, and video sharing be compatible with tablets. The commenter states that the performance objective can be achieved by designing the IVCS user interface to be tablet-friendly, i.e., able to adapt between different screen sizes and allow for multi-touch gestures and split-screen multitasking. Another commenter objects to this proposal, contending that tablet compatibility represents a de facto technical mandate. The Commission does not mandate that any particular IVCS must be able to be used on a tablet. However, the Commission recognizes that many IVCS providers choose to make their products available on tablets. Accordingly, the Commission seeks comment on whether to adopt a performance objective specifying that, where IVCS is available on tablets, it provide the functionalities described in the earlier commenter's proposal. Would provision of the functionalities the commenter describes, pose unusually difficult design or technical challenges? To what degree do current IVCS offerings provide such device-specific functionality? Should the Commission consider device-specific performance objectives?

25. The Commission also seeks further comment on a commenter's proposal to require IVCS providers to offer dedicated text and video side channels. According to the commenter, these additional channels are necessary to facilitate communication between sign language interpreters and sign language users, and between multiple interpreters in “team interpreting” scenarios. Another commenter objects to this proposal, countering that some IVCS platforms do not offer text-based communication, and requiring them to do so would constitute a technical mandate and an economic burden. Additionally, the commenter contends that because side channels are only tangentially related to the video conference call itself, the absence of those channels should not affect compliance with the video conferencing rules. The Commission seeks comment on these arguments, as well as comments on the need for and feasibility of this proposal.

26. Accessibility for People Who Are Blind or Have Low Vision. Part 14 of the Commission's rules currently includes a generally applicable performance objective addressing the availability of visual information for people who are blind or have low vision, which specifies that visual information be provided through at least one mode in auditory form. 47 CFR 14.21(b)(2)(i).

27. The Commission seeks comment on whether to amend this performance objective to specify the provision of audio description and visual image descriptive functionality, as well as compatibility with third-party visual image descriptive services. The term audio description refers to a feature that is required for some television and other video programming pursuant to the Commission's part 79 rules. Under those rules, an audio description of a program's key visual elements must be inserted into natural pauses in the program's dialogue. The term “visual image description” refers to a related feature, described by a commenter as functionality that generates real-time descriptions of visual information for people who are blind or low vision. The Commission seeks comment on the extent to which these terms refer to different functions in the context of IVCS.

28. Additionally, the Commission seeks comment on other ways that relevant visual information could be provided in auditory form. Is the provision of audio description of video and visual images implicit in the existing performance objective? Would a rule directly specifying the provision of audio description or visual image description, or both, be helpful as a way of clarifying IVCS provider's obligations under the existing rule? To what extent should the FCC mandate compatibility with third-party description services, such as AIRA and Be My Eyes, if at all? To what extent are third-party description services currently being used in conjunction with IVCS, if at all?

29. The Commission also seeks comment on the scope of visual information that should be provided through audio description in IVCS. Section 14.21(b)(2) of the Commission's rules currently provides that it covers all information necessary to operate and use the product, including but not limited to, text, static or dynamic images, icons, labels, sounds, or incidental operating cues. Does § 14.21(b)(2) of the Commission's rules sufficiently describe the kinds of visual information that an IVCS provider is or should be required to make available in auditory form, or should we amend it to provide greater clarity? For example, should the Commission adopt a commenter's recommendation to add “shared documents,” to the list of information that must be made accessible? Should shared videos be included? Should coverage of shared documents or videos be affected by the extent to which a video conferencing service enables such sharing of visual information by participants?

30. The Commission also seeks comment on the potential costs and benefits of integrating audio description and visual image description into IVCS platforms. Are audio description and visual image descriptive third-party services commercially available? What are the technical or financial challenges, if any, of integrating these services? How would conference call participants access this function?

31. Tactile Mode. Two commenters request that performance objectives be adopted or amended to provide that IVCS (and other types of ACS) be operable and visual information be available in tactile mode. Section 14.21(b)(1)(i) of the Commission's rules currently states that, to be accessible, the input, control, and mechanical functions advanced communications services, equipment and software must provide at least one mode that does not require user vision. One of these commenters urges the Commission to modify this performance objective to read: “Provide auditory and tactile modes that do not require user vision.”

32. In addition, § 14.21(b)(2)(i) of the Commission's rules states that, to be accessible, advanced communications services, equipment and software must: “Provide visual information through at least one mode in auditory form.” The same advocacy organization urges the Commission to modify this performance objective to read: “Provide visual information in both auditory and tactile forms.”

33. These changes would make clearer what is required to make IVCS (and other types of ACS) accessible to people who are deafblind or who otherwise require that controls and information be accessed tactilely. The Commission seeks comment on the benefits and costs of these proposed changes, including specific examples of how they would improve the accessibility of covered services and the equipment and software used to access them.

34. Accessibility for People with Cognitive and Mobility Disabilities. The Commission seeks comment on whether more specific performance objectives are needed to address the challenges people with cognitive and mobility disabilities face when attempting to access video conferencing services.

35. Cognitive Disabilities. Currently, the performance objectives set forth in § 14.21 of the Commission's rules include a performance objective specifying that IVCS should: “Provide at least one mode that minimizes the cognitive, memory, language, and learning skills required of the user.” 47 CFR 14.21(b)(1)(x). A commenter urges the Commission to adopt a more specific performance objective specifying the provision of “a simplified secure modality for initiating, authenticating and interfacing with a video conferencing session.” What would such a feature entail, and what is its likely cost?

36. The Commission also seeks comment on a commenter's recommendation to adopt a usability-related performance objective for people with cognitive disabilities, specifying the provision of “plain and simple language and iconography on instructional materials on how to activate a video conferencing session,” to supplement the current, more general usability objective specifying that people with disabilities “have access to the full functionality and documentation for the product, including instructions, product information (including accessible feature information), documentation and technical support functionally equivalent to that provided to individuals without disabilities.” 47 CFR 14.21(c). Commenters are invited to submit examples of instruction manuals, tutorials, or guides for other products and services that have been produced for people with cognitive disabilities.

37. Usability Generally. The Commission also seeks comment on whether any other amendments to the usability provision of the rules, § 14.21(c) of the Commission's rules, are needed to ensure that people with disabilities have access to the “full functionality and documentation” for IVCS, including “instructions, product information (including accessible feature information), documentation and technical support functionally equivalent to that provided to individuals without disabilities.”

38. Mobility Disabilities. Currently, part 14 of the Commission's rules prescribes several performance objectives specifying that ACS be operable in various ways by users with mobility disabilities. The Commission seeks comment on whether any more specific performance objectives are needed to ensure that people with mobility disabilities can access and use IVCS. For example, a commenter recommends that IVCS user controls be accessible via voice activation or other hands-free technologies. The Commission seeks comment on the likely costs and benefits of such a requirement. Is this performance objective likely to be achievable independently of the devices available to the user? For example, could an IVCS provider develop or purchase a voice-activation application for its user controls that is compatible with commonly used user devices (e.g., smartphones, tablets, and PCs), and make it available for downloading at no charge, or a nominal charge? What would be the likely cost of such a solution? Alternatively, could an IVCS provider ensure that its service is compatible with existing peripheral devices or specialized customer premises equipment offering voice activation?

39. Application to Covered Equipment and Software. Manufacturers of equipment used for IVCS are required to ensure that their equipment and software meets the performance objectives of § 14.21 of the Commission's rules, except to the extent that is not achievable. See 47 CFR 14.20(a)(1). The Commission seeks comment on whether additional amendments to its part 14 rules are needed to ensure the accessibility of equipment and software that is used to provide or use IVCS. What kinds of equipment- and software-related challenges do people with disabilities currently face in using end-user equipment and software to access and use IVCS? Are such challenges sufficiently addressed by the current part 14 of the Commission's rules? Are there specific performance objectives that are uniquely or peculiarly applicable to such equipment and software (as opposed to services), such that the Commission should amend § 14.21 of its rules to include them, to ensure the accessibility of such equipment and software?

Part 64 Issues

40. VRS—Team Interpreting and Other CA-Related Issues. The Commission seeks further comment on whether to authorize the TRS Fund to support team interpreting by two VRS CAs from the same provider participating simultaneously in a video conference, and on what criteria should be applied for allowing such additional support. Under the current rules, providers are free to provide team interpreting as they deem necessary, but are only compensated for a single CA per call. While guidelines for professional interpreters issued by the Registry of Interpreters for the Deaf (RID) reference a number of factors, those factors are stated in very general terms, leaving much room for subjective or discretionary judgment in their application. Specifically, RID considers the length and complexity of the assignment; unique needs of the persons being served; physical and emotional dynamics of the setting; and avoidance of repetitive stress injuries for interpreters. The Commission believes it would be preferable to adopt a bright-line rule in this area. Two commenters assert that the duration and complexity of a call are two important factors in determining when team interpreting is needed, but no commenter proposes specific, bright-line criteria for assessing these or other relevant factors.

41. With respect to the considerations that may support team interpreting, there appear to be significant differences between VRS and traditional community interpreting. With community interpreting, which is arranged by appointment, there is usually advance knowledge of the likely duration and complexity of an assignment. In addition, the assigned interpreter(s) cannot be quickly replaced, if that proves necessary, after a meeting has begun. Therefore, a community interpreting agency usually needs to determine in advance, based on the likely duration and complexity of the assignment, how many interpreters may be needed, and commit the time of those interpreters for the duration. By contrast, with VRS, CAs can be added, as needed, to a call or video conference whose duration is not known in advance. The Commission seeks comment on these assumptions and how they should affect its selection of criteria for authorizing team interpreting in VRS.

42. In light of the above assumptions, would the duration of a video conference, standing alone, ever justify assignment of a second VRS CA to be present simultaneously with the first, regardless of the complexity of the video conference? For example, for a video conference with only two participants, would team interpreting ever be warranted, given that the CA can easily be replaced on a long-duration call?

43. To address call complexity, if the Commission allows team interpreting, should it set a minimum number of participants that must be present in a video conference, to warrant compensation for a second simultaneous VRS CA? If so, what number should that be? Alternatively, should the Commission require a minimum number of registered VRS users—or of hearing individuals, or both? For video conferences with the requisite number of users, should the Commission also set a minimum period of time that should elapse before a second VRS CA is added? For example, should the Commission set 10 minutes, 30 minutes, or another period as the minimum threshold for adding a second simultaneous CA to a call? Under current Commission rules, a VRS CA assigned to a call must stay with the call for a minimum of 10 minutes, unless the call ends earlier. Meanwhile, a commenter cites research suggesting that a significant loss of accuracy occurs after approximately thirty minutes of interpretation due to mental fatigue and also notes that ASL interpretation has an additional physical demand that is especially pronounced during long calls. Other studies have found that 87.5% of interpreters sampled suffered from some form of repetitive stress injury, and that ASL interpretation was one of the highest-risk professions for ergonomic injury. Additionally, the commenter states that IVCS calls are on average seven times longer than VRS telephone calls.

44. Are there other indicia of complexity that lend themselves to a bright-line rule addressing compensation for an additional CA? What call scenarios might be better served by having two CAs remain on the call taking turns, rather than having a brand new CA enter the call to relieve the current CA? Complexity of subject matter may be a significant factor influencing whether there is a need for two simultaneous CAs; but the subject matter of a video conference will not be known to the VRS provider or the CA before it starts. Are there objective factors that could be used to define the complexity of the subject matter, and which, after a call begins, could be communicated by the CA (without violating the Commission's TRS confidentiality rule) to indicate to the provider that team interpreting is warranted for the video conference?

45. The Commission also seeks comment on whether the TRS Fund should provide compensation for the assignment of additional VRS CAs when video conferences are split into breakout groups. The Commission seeks comment on the extent to which these scenarios are likely to occur, and whether they would justify a special rule. It also seeks comment on how to most effectively address such scenarios. For example, should the Commission modify the rule which allows a VRS provider to respond to only one service request for a video conference (until the first requester drops off)—to allow additional CA(s) to be assigned if a second VRS user (or more) so requests after ending up in a breakout room without a CA? How should the provision of additional service to a breakout room be documented in call detail records (CDRs) submitted to the TRS Fund administrator? And, how would a second VRS CA find out which room to join?

46. Finally, the Commission seeks comment on whether to amend its rules (1) to provide more specific guidance on how a video conference participant who is a registered VRS user may request VRS (if the initially requesting VRS user has disconnected) and (2) to enable a participant to request the assignment of an additional CA (should the user find the number of CAs on the call insufficient for effective communication). The rules allow a registered VRS user to request that VRS be extended if the requesting user drops off; however, a commenter asserts that its system for automatically processing requests for VRS in video conferences does not allow such a request while a CA is already serving the video conference. Are there alternative, non-automated means by which such requests could be efficiently made and fulfilled, without causing a significant risk of waste, fraud, and abuse? Could such a method be adapted to enable a participant to request the assignment of an additional CA to a complex video conference?

47. VRS—Use of Specialized CAs in Video Conferences. The Commission seeks further comment on whether to amend its rules to permit VRS providers to assign the provision of integrated VRS in video conferences to CAs that have been specially trained to handle video conferences, rather than to the first available CA, as is otherwise required. In the 2024 Video Conferencing Order, the Commission finds the current record insufficient to support such a rule, noting that not every video conference may be sufficiently complex to require a specially trained CA, and that speed of answer, as well as the quality of TRS provided for traditional telephone calls could be affected if the Commission were to authorize the assignment of specially trained CAs from a select group to handle the provision of VRS in video conferences.

48. A commenter contends that assigning video conferences to specialist CAs will provide a more functionally equivalent experience for VRS users participating in video conferences because those CAs will be trained on the mechanics and features of various video conferencing platforms, and so, will be able to more quickly and efficiently interpret for the VRS user. The commenter adds that specially trained CAs would be proficient in interpreting in large group settings as well as navigating the accessibility features of each specific IVCS platform, and that it would not be feasible to train every CA on these factors. Another commenter agrees, that handling VRS calls in a video conference setting requires CAs to possess specific skills, such as the ability to manage multiple users in a video conference and familiarity with various IVCS features and functionalities.

49. The Commission seeks additional comment on the proposal. Currently, all VRS calls must be answered in the order received—a requirement that is intended to ensure that VRS providers do not discriminate against, or in favor of, particular VRS users. The Commission recognizes that the assignment of CAs who are specially trained to handle video conferences could raise the quality of VRS provided in video conferences. On the other hand, it seems reasonable to assume that, in general, CAs who qualify for assignment to video conferences are also likely to have above-average skills and experience in handling and interpreting for traditional telephone calls. The FCC seeks comment on this assumption. It also seeks comment on the specific challenges of video conferences that require special training for CAs? Do all types of video conferences present such challenges, or only those video conferences with many participants? How would the benefits of improving service quality for video conferences compare with the potential harm resulting from removal of highly qualified CAs from the queue for voice calls? What steps could the Commission take to minimize such potential harm? To limit such potential harm, should the Commission require that specially trained CAs participate in both call queues, so that they can be available to interpret for voice-only calls when not needed for a video conference? What other steps could the Commission take to limit potential harm to service quality for traditional voice calls?

50. Further, if only a limited number of CAs are trained to handle video conferences, what impact would such a limitation have on the speed of answer for video conferences? What percentage of VRS minutes do providers estimate will involve video conferences, and what percentage of CAs would need to receive special training to avoid a significant decline in average speed-of-answer for video conferences, relative to traditional telephone calls? To avoid excessive delays, should the Commission require that a minimum number or percentage of CAs be trained to handle video conferences? The Commission notes that its speed-of-answer rule for VRS is substantially less strict than the rule for other relay services. For most forms of TRS, providers must answer 85% of all calls within 10 seconds, measured daily. 47 CFR 64.604(b)(2)(ii). For VRS, by contrast, providers must answer 80% of all VRS calls within 120 seconds, measured on a monthly basis. 47 CFR 64.604(b)(2)(iii). However, service-quality competition among providers generally has resulted in a substantially lower average delay in answering VRS calls.

51. The Commission also seeks comment on the specific amount of training that is necessary to ensure acceptable service quality for video conferences. What is the estimated cost of such training, on a per-CA basis? What would be the cost of training all of a provider's CAs to handle video conferences?

52. Finally, there is some likelihood that, over time, the use of VRS in video conferences may increase to a substantial percentage of total VRS minutes. If the Commission were to authorize the use of a specialist CA queue for video conferences, should it do so as a pilot program with a sunset date, to ensure that the impact of this practice and the need for it to continue can be assessed before deciding whether to adopt a more permanent rule?

53. Integrated Provision of IP CTS. IP CTS is currently available for use in video conferences where participants can connect by dialing a telephone number. The Commission's part 14 rules now provide that, unless it is not achievable to do so, IVCS providers “shall enable users to connect with third-party captioning services”—a category that includes IP CTS—“so that captions provided by such services appear on the requesting user's video conference screen.” The Commission also affirms that the TRS Fund supports the provision of TRS—including IP CTS—in video conferences on an integrated basis, as long as the service is provided in compliance with the TRS rules. The Commission seeks comment on whether additional amendments to the rules are needed to facilitate the integrated provision of IP CTS on a video conferencing platform, that is, to participants who do not connect to a video conference by dialing a telephone number, and to prevent waste, fraud, or abuse of the TRS Fund.

54. As a preliminary matter, the Commission seeks comment on the extent to which IP CTS is currently used in video conferences, as well as the extent of demand and additional benefits likely to result from its availability on an integrated basis. There are a number of captioning solutions that are now or may soon be available in the video conferencing context for people with hearing loss, including captions provided by the IVCS provider, CART and other fee-based captioning services, and captioning applications provided by various large and small technology companies. The Commission seeks comment on the extent of additional demand and additional benefits likely to result from the availability of integrated IP CTS in video conferences. What factors would lead a video conference participant to request integrated IP CTS captions when the IVCS platform offers native captioning and participants can view captioning from another source on their own screen? To what extent do video conference participants who need captioning currently use IP CTS rather than other sources of captioning, and to what extent would they be likely to use integrated IP CTS, if available? If a video conference participant invites IP CTS captioning on an integrated basis to the call, will participants be able to control the size, font, and placement of the captions? Should the Commission adopt any other restrictions on the use of integrated IP CTS captions to prevent waste, fraud, and abuse?

55. The Commission seeks comment on whether any amendments to the current call detail requirements of the Commission's rules are necessary to facilitate review and approval of compensation requests for the provision of IP CTS in video conferences on an integrated basis.

56. To prevent billing of the TRS Fund for duplicative captioning, the Commission proposes to adopt a similar rule to that adopted for VRS in the 2024 Video Conferencing Order. Specifically, the Commission proposes that, if the captions supplied by an IP CTS provider can be viewed by all video conference participants (rather than only by the individual who requested captioning from an IP CTS provider), then the provider shall not submit more than one CDR for that video conference and shall not be paid for more than one instance of captioning to that video conference. In other words, the total compensation received by a single IP CTS provider for captioning a video conference would not exceed the applicable compensation rate multiplied by the number of minutes in the video conference. The Commission seeks comment on this proposal. The Commission also seeks comment on whether to allow compensation for the provision of IP CTS in a video conference to an individual registered user, on a non-integrated basis, if the provider is already providing IP CTS to all participants on an integrated basis, at the request of another registered user. Further, are there any circumstances in which more than one IP CTS provider is needed to provide integrated IP CTS captioning in a video conference? If not, how can the Commission prevent duplicative captioning?

57. Integration of Other Forms of TRS. The Commission seeks further comment on whether and how it should amend its rules to facilitate the provision in video conferences of non-internet-based TRS—TTY-based TRS, CTS, and STS. These services, offered through state TRS programs, are intended for use on an ordinary telephone line. While users of these services may be able to participate in a video conference call over a voice connection (where available), it is unclear whether or how these forms of TRS could be integrated with video conferencing platforms. Further, given the availability of IP CTS, which provides the functionality of CTS and TTY-based TRS for users with internet access, it seems unlikely that there would be significant demand for integrated provision of these services in internet-based video conferences. The Commission seeks comment on this assessment.

58. IP Relay is a service often used with refreshable braille devices and screen readers and by the deafblind community. Would integration of IP Relay with video conferencing service platforms improve the ability of these or other consumers to participate in video conferencing calls? Are there other steps the Commission should take to facilitate an IP Relay user's participation in video conferences? The Commission seeks comment on these issues and any rule changes that may be necessary to facilitate the integrated provision of IP Relay in video conferencing platforms.

59. Advancing Equity, Diversity, and Inclusion. The Commission, as part of its continuing effort to advance digital equity for all, including people of color, persons with disabilities, persons who live in rural or Tribal areas, and others who are or have been historically underserved, marginalized, or adversely affected by persistent poverty or inequality, invites comment on any equity-related considerations and benefits, if any, that may be associated with the proposals and issues discussed herein. Specifically, the Commission seeks comment on how its proposals may promote or inhibit advances in diversity, equity, inclusion, and accessibility.

Initial Regulatory Flexibility Analysis

60. As required by the Regulatory Flexibility Act of 1980, as amended, the Commission has prepared the Initial Regulatory Flexibility Analysis (IRFA) of the possible significant economic impact on a substantial number of small entities by the policies and rules proposed in document FCC 24-95. Written public comments are requested on the IRFA. Comments must be identified as responses to the IRFA and must be filed by the deadlines provided in the item. The Commission will send a copy of the entire FNPRM, including this IRFA, to the Chief Counsel for Advocacy of the Small Business Administration (SBA).

61. Need for, and Objective of, Proposed Rules. In document FCC 24-95, the Commission proposes to adopt additional requirements in part 14 of its rules to improve the accessibility of IVCS, a form of ACS. First, the Commission seeks comment on whether to add a part 14 performance objective to its rules for video conferencing services to provide text-to-speech and speech-to-speech capability for individuals with speech disabilities, and whether to require IVCS platforms to provide sign language interpretation, and the costs and benefits of such actions. The Commission also seeks comment on additional part 14 performance objectives of its rules for user controls, video window characteristics, and audio description and visual image description services. Further, the Commission seeks comment on part 14 of its rules requirements on IVCS platforms for persons with cognitive and motor disabilities. Finally, the Commission seeks comment on whether additional performance objectives are necessary to ensure that equipment and covered software are accessible to people with disabilities.

62. The Commission seeks comment on additional requirements in part 64 of its rules to facilitate the integration of TRS with video conferencing services. The Commission seeks comment on whether there are objective, bright-line guidelines that it could use to determine when it would be warranted to compensate a VRS provider for sending a team of two or more sign language interpreters to a video conference call. The Commission also seeks comment on whether it should adopt additional amendments to its rules to facilitate the integrated provision of IP CTS for participants within a video conferencing platform and how to prevent waste, fraud, or abuse of the Interstate TRS Fund. Finally, the Commission seeks comment on whether and how it could adopt rules to facilitate use of analog forms of TRS and IP Relay on video conferencing calls.

63. In proposing these amendments to part 14 and part 64 of the Commission's rules, the Commission addresses comments in the record that recommend specific accessibility requirements for video conferencing platforms to enable individuals with hearing, speech, vision, cognitive, and mobility disabilities to participate in video conference in a manner equivalent to the experience of individuals without such disabilities.

64. Legal Basis. The proposed action is authorized pursuant to §§ 1, 2, 3, (4)(i), (4)(j), 225, and 716 of the Act, as amended, 47 U.S.C. 151, 152, 153, 154(i), 154(j), 225, 617.

65. Description and Estimate of the Number of Small Entities Impacted.

66. If the proposed rules are adopted, the rules will affect the obligations of providers of IVCS and providers of TRS. IVCS can be included within the broad economic category of All Other Telecommunications.

67. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or VoIP services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

68. (TRS) Providers. TRS enables individuals who are deaf, hard of hearing, deafblind, or who have a speech disability to communicate by telephone in a manner that is functionally equivalent to using voice communication services. Internet-based TRS connects an individual with a hearing or a speech disability to a TRS communications assistant using an internet Protocol-enabled device via the internet, rather than the public switched telephone network. VRS one form of internet-based TRS, enables people with hearing or speech disabilities who use sign language to communicate with voice telephone users over a broadband connection using a video communication device. IP CTS another form of internet-based TRS, permits a person with hearing loss to have a telephone conversation while reading captions of what the other party is saying on an internet-connected device. A third form of internet-based TRS, IP Relay, permits an individual with a hearing or a speech disability to communicate in text using an internet Protocol-enabled device via the internet, rather than using a TTY and the public switched telephone network. Providers must be certified by the Commission to provide VRS and IP CTS and to receive compensation from the TRS Fund for TRS provided in accordance with applicable rules. Analog forms of TRS, TTY, Speech-to-Speech Relay Service, and Captioned Telephone Service, are provided through state TRS programs, which also must be certified by the Commission.

69. Neither the Commission nor the SBA have developed a small business size standard specifically for TRS Providers. All Other Telecommunications is the closest industry with a SBA small business size standard. ISPs and VoIP services, via client-supplied telecommunications connections are included in this industry. The SBA small business size standard for this industry classifies firms with annual receipts of $35 million or less as small. U.S. Census Bureau data for 2017 show that there were 1,079 firms in this industry that operated for the entire year. Of those firms, 1,039 had revenue of less than $25 million. Based on Commission data there are 14 certified internet-based TRS providers and two analog forms of TRS providers. The Commission however does not compile financial information for these providers. Nevertheless, based on available information, the Commission estimates that most providers in this industry are small entities.

70. Description of Projected Reporting, Recordkeeping, and Other Compliance Requirements. The proposed changes, if adopted, would impose new or modified reporting, recordkeeping or other compliance obligations on certain small entities that provide TRS, IVCS, or manufacturer equipment and software for use with IVCS. Although, the Commission cannot, at present, determine whether small entities will have to hire professionals to implement and comply with the proposed requirements, nor can it quantify the cost of compliance for small entities, the Commission anticipates the information received in comments, including cost and benefit analyses where requested, will help the Commission identify and evaluate relevant compliance matters for small entities, including compliance costs and other burdens that may result from the proposals and inquiries the Commission makes. The Commission expects that the approaches it proposes will have minimal cost implications for covered entities because many of these requirements are part of existing reporting processes for these entities. Further, the rules themselves include a safeguard to ensure that the burden and cost of compliance will not be unreasonable: compliance is conditioned on each objective being “achievable,” i.e., “with reasonable effort or expense.” An achievability determination must consider the nature and cost of the steps needed to meet the requirement, the technical and economic impact on the company's operation, the type of operations of the company, and the extent to which accessible services or equipment are already being offered by the company.

71. Accessibility of IVCS Equipment. Part 14 of the Commission's rules requires that providers of ACS—including IVCS—and manufacturers of equipment used with ACS ensure that their services and equipment (including associated software) are accessible and usable by people with disabilities, unless these requirements are not achievable. The Commission seeks comment on performance standards for ensuring equipment used with IVCS are accessible and usable by people with disabilities. Such performance objectives if adopted could modify reporting, recordkeeping, and compliance obligations of such entities.

72. IVCS Recordkeeping. The Commission's existing rules require that each provider of ACS (including IVCS) and each manufacturer of equipment used to provide IVCS maintain, in the ordinary course of business and for a reasonable period, records documenting the efforts taken by such manufacturer or service provider to implement section 716 of the Act: information about the manufacturer's or provider's efforts to consult with individuals with disabilities; descriptions of the accessibility features of its products and services; and information about the compatibility of such products and services with peripheral devices or specialized customer premise equipment commonly used by individuals with disabilities to achieve access. If the Commission adopts additional performance objectives under Part 14 of its rules, it may increase the amount of information that entities must retain and report under the recordkeeping requirement. The time and resources needed to fulfill this additional recordkeeping should be minimal given the ongoing obligation to retain such records.

73. IVCS Reporting. The Commission's existing rules require that an officer of each provider of ACS (including IVCS) and an officer of each manufacturer of equipment (including software) used to provide ACS submit to the Commission an annual certificate that records are being kept in accordance with the above recordkeeping requirements, unless such manufacturer or provider has been exempted from compliance with section 716 of the Act under applicable rules. The Commission anticipates that the form and content of the reporting will be unchanged, but the office may require additional time to confirm the records for any new performance objectives are kept in accordance with the reporting requirements.

74. TRS Amendments. The proposed amendments to the Commission's rules governing TRS are designed to facilitate the use of TRS communications assistants CAs in video conferences, while minimizing the risk of waste, fraud, and abuse of the TRS Fund. These modifications would only apply to an entity that provides TRS to the extent that users of that entity opts to participate in video conference calls. Otherwise, the TRS compliance and reporting requirements remain consistent with existing reporting obligations and the Commission's proposals would only clarify those obligations without changing the burden to small entities.

75. Steps Taken to Minimize Significant Impact on Small Entities, and Significant Alternatives Considered. Document FCC 24-95, seeks comments on a number of alternatives that may impact small entities. The proposed part 14 of the Commission's performance objectives would be subject to options to make a product or service accessible by incorporating accessibility features into the product or service itself or by relying on third party applications, peripheral devices, software, hardware, or CPE that are available to the consumer at nominal cost. All Part 14 performance objectives of the Commission's rules are also subject to an “achievability” standard that takes into account the cost of compliance and the nature of the impact of compliance on a specific entity. In addition, the rules provide an exemption for customized services and equipment and authorize the grant of waivers for multipurpose services and equipment. These flexibility and achievability conditions apply equally to all covered entities, including small entities.

76. The proposed requirements would apply equally to all IVCS providers and are necessary to ensure video conferencing is accessible to and usable by people with disabilities. The amendments to the TRS rules will only apply to the extent a small entity TRS provider allows its users to participate in integrated IVCS calls. The Commission seeks comment on multiple alternatives to ensure it is able to implement rules to facilitate the availability of and compensation for multiple communications assistants during a video conference call, while minimizing the potential risk of waste, fraud, and abuse to the TRS Fund in allowing such practices. Further developing this record will allow the Commission to minimize potential burdens to small entities, while protecting the integrity of the TRS Fund.

77. Document FCC 24-95 seeks comment from all interested parties. Small entities are encouraged to bring to the Commission's attention any specific concerns they may have with the proposals outlined. The Commission expects to consider the economic impact on, and alternatives for, small entities as identified in comments filed in response to document FCC 24-95, in reaching its final conclusions and taking action in this proceeding.

78. Federal Rules Which Duplicate, Overlap, or Conflict with, the Commission's Proposals. None.

Federal Communications Commission.
Marlene Dortch,
Secretary, Office of the Secretary.

[FR Doc. 2024-30501 Filed 12-31-24; 8:45 am]

BILLING CODE 6712-01-P